ENVIRONMENTAL PROTECTION AGENCY

[ER-FRL-6698-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 11, 2008 (73 FR 19833).

Draft EISs

EIS No. 20070534, ERP No. D-AFS-L65546-ID, Idaho Roadless Area Conservation Project, To Provide State-Specific Direction for the Conservation and Management of Inventoried Roadless Areas, National Forest System Lands in Idaho.

Summary: EPA expressed environmental concerns about impacts to drinking water, ground water, and the potential impacts from expansions of phosphate mining. The final EIS should clarify the disposition of temporary roads, especially duration and closure, consistent with NFMA. Rating EC2.

EIS No. 20080014, ERP No. D-NPS-L65547-WA, San Juan Island National Historical Park, General Management Plan, Implementation, WA.

Summary: EPA expressed environmental concerns about impacts to air and water quality, and requested additional data on current water and air quality within the park and mitigation for air and water quality impacts. Rating EC2.

EIS No. 20080068, ERP No. D-NPS-J61113-SD, Minuteman Missile National Historic Site, General Management Plan, Implementation, Jackson and Pennington Counties, SD.

Summary: EPA has no objections to NPS's Preferred (Alternative 4). Rating LO.

Final EISs

EIS No. 20080051, ERP No. F-AFS-J65446-MT, Beaverhead-Deerlodge National Forest Draft Revised Land and Resource Management Plan, Implementation, Beaverhead, Butte-Silver Bow, Deerlodge, Granite, Jefferson, Madison Counties, MT.

Summary: EPA continues to have environmental concerns about impacts to fisheries, wildlife and other unique aquatic resources.

EIS No. 20080124, ERP No. F-USN-D11043-MD, National Naval Medical Center, Activities to Implement 2005 Base Realignment and Closure Actions, Construction and Operation of New Facilities for Walter Reed National Military Medical Center, Bethesda, MD.

Summary: EPA's previous concerns have been resolved; therefore, EPA does not object to the proposed action.

EIS No. 20080093, ERP No. FS-AFS--L65382-ID, Meadow Face Stewardship Pilot Project, Improvement to Aquatic and Terrestrial Vegetative Conditions, Supplement Information on the Cumulative Effects Analysis, Nez Perce National Forest, Clearwater Ranger District, Idaho County, ID.

Summary: No comment letter was sent to the preparing agency.

Dated: April 15, 2008.
Robert W. Hargrove,
Director, NEPA Compliance Division Office of Federal Activities.

[FR Doc. E8-8396 Filed 4-17-08; 8:45 am]

BILLING CODE 6560-50-P